DEPARTMENT OF DEFENSE

Department of the Army

Army Science Board; Open Meeting

In accordance with section 10(a)(2) of the Federal Advisory Committee Act (Pub. L. 92-463), announcement is made of the following Committee Meeting:

Name of Committee: Army Science Board (ASB).

Date of Meeting: 13, 14, and 15 March 2001.

Time of Meeting: 8:00 am to 5:00 pm.

Place: Main Conference Room, SAIC, 1710 Solutions Dr., McLean, VA.

Agenda: The Army Science Board's (ASB) Objective Force Soldier/Soldier Teams study will meet for the second of three Plenary Meeting to receive updates from panel breakouts, receive presentations of various subject topics as it pertains to the study, and discuss/plans for forthcoming meetings. This meeting will be open to the public. Any interested person may attend, appear before, or file statements with the committee at the time and in the manner permitted by the committee. For further information, please contact Mr. Mike Hendricks on (703) 617-7048.

Wayne Joyner,
Program Support Specialist, Army Science Board.

[FR Doc. 01-5783 Filed 3-8-01; 8:45 am]

BILLING CODE 3710-08-M